DEPARTMENT OF HOUSING AND URBAN DEVELOPMENT

[Docket No. FR-5121-N-12]

Notice of Proposed Information Collection: Comment Request; Assessment of FHA Lender Customer Satisfaction—Survey of Businesses

AGENCY: Office of the Assistant Secretary for Housing—Federal Housing Commissioner, HUD.

ACTION: Notice.

SUMMARY: The proposed information collection requirement described below will be submitted to the Office of Management and Budget (OMB) for review, as required by the Paperwork Reduction Act. The Department is soliciting public comments on the subject proposal.

DATES: Comments Due Date: June 18, 2007.

ADDRESSES: Interested persons are invited to submit comments regarding this proposal. Comments should refer to the proposal by name and/or OMB Control Number and should be sent to: Lillian Deitzer, Reports Management Officer, Department of Housing and Urban Development, 451 7th Street, SW., Room 4178, Washington, DC 20410 or Lillian_L_Deitzer@hud.gov.

FOR FURTHER INFORMATION CONTACT: James Beavers, Assistant Director, Office of Single Family Program Development, Department of Housing and Urban Development, 451 7th Street SW., Washington, DC 20410, telephone (202) 402-2205 (this is not a toll free number) for copies of the proposed forms and other available information.

SUPPLEMENTARY INFORMATION: The Department is submitting the proposed information collection to OMB for review, as required by the Paperwork Reduction Act of 1995 (44 U.S.C. Chapter 35, as amended).

This Notice is soliciting comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses.

This Notice also lists the following information:

Title of Proposal: Assessment of FHA Lender Customer Satisfaction—Survey of Businesses.

OMB Control Number, if applicable: 2502-NEW.

Description of the need for the information and proposed use: FHA has recently undertaken efforts to modernize programs and processes in order to maintain a strong lending position with unserved and underserved borrowers. A customer satisfaction survey will be conducted to assist FHA in first assessing the level of satisfaction that lenders have with their financing programs and then monitor the changes in satisfaction as the enhancements to their programs are put in place. By compiling quantitative data regarding customer satisfaction, steps can be taken to improve FHA's standing in the lending market. The initial survey will serve as a baseline from which to measure improvement in satisfaction levels as the survey is completed on an annual basis.

In 2005, the “Studies of the Barriers of the Use of FHA Programs and the Use of Third-Party Originators for FHA-Insured Loans” reported that the key factors contributing to the decline of FHA-insured product use in the lending market were the product itself, FHA processes, and customer relations. From these results, it was recommended that FHA undertake steps to enhance its products and processes and to improve its customer service. In an effort to reinvigorate its programs, re-engineer its processes, and increase responsiveness to mortgagees, FHA has begun to roll out new changes in its programs and methods. FHA is in need of a successful mechanism through which they can address their progress in removing the barriers that were mentioned in the study. A customer satisfaction survey serves as a useful method of assessing the levels of satisfaction of new programs and also identifying areas that still need more attention. This survey will address specific items and access respondents' levels of satisfaction or dissatisfaction so that FHA can take the appropriate actions while reforming their programs and processes. Through conducting this survey on an annual basis, FHA will have a consistent and quantitative measure of the level of customer satisfaction and also determine if the overall sentiment regarding FHA has changed versus prior years.

Agency form numbers, if applicable: None.

Estimation of the total numbers of hours needed to prepare the information collection including number of respondents, frequency of response, and hours of response: The number of burden hours is 167. The number of respondents is 668, the frequency of response is annually, and the burden hour per response is 15 minutes.

Status of the proposed information collection:

Authority: The Paperwork Reduction Act of 1995, 44 U.S.C., Chapter 35, as amended.

Dated: April 11, 2007.
Frank L. Davis,
General Deputy Assistant Secretary for Housing—Deputy Federal Housing Commissioner.

[FR Doc. E7-7283 Filed 4-16-07; 8:45 am]

BILLING CODE 4210-67-P